DEPARTMENT OF HEALTH AND HUMAN SERVICES

Agency for Toxic Substances and Disease

Board of Scientific Counselors, Agency for Toxic Substances and Disease Registry: Notice of Charter Renewal

This gives notice under the Federal Advisory Committee Act (Public Law 92-463) of October 6, 1972, that the Board of Scientific Counselors, Agency for Toxic Substances and Disease Registry, of the Department of Health and Human Services, has been renewed for a 2-year period extending through July 28, 2005.

For further information, contact Robert Spengler, Sc.D., Executive Secretary, Board of Scientific Counselors, Agency for Toxic Substances and Disease Registry, 1600 Clifton Road, NE., M/S E-28, Atlanta, Georgia 30333, telephone 404/498-0003 or fax 404/498-0081.

The Director, Management and Analysis and Services office has been delegated the authority to sign Federal Register notices pertaining to announcements of meetings and other committee management activities, for both the Centers for Disease Control and Prevention and the Agency for Toxic Substances and Disease Registry.

Dated: August 18, 2003.
Diane C. Allen,
Acting Director, Management Analysis and Services Office, Centers for Disease Control and Prevention.

[FR Doc. 03-21511 Filed 8-21-03; 8:45 am]

BILLING CODE 4163-18-P